DEPARTMENT OF JUSTICE

Antitrust Division

Notice Pursuant to the National Cooperative Research and Production Act of 1993—National Armaments Consortium

Notice is hereby given that, on January 30, 2019, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Altus, LLC, Darlington, MD; Anduril Industries, Inc., Costa Mesa, CA; Armaments Research Company, Inc., Bethesda, MD; Atlantic Diving Supply, Inc. Dba ADS, Inc., Virginia Beach, VA; Averatek Corp, Santa Clara, CA; Avineon, Inc., McLean, VA; AZT Technology, LLC, Naples, FL; CogniTech Corporation, Salt Lake City, UT; CohesionForce, Inc., Huntsville, AL; Davidson Technologies, Inc., Huntsville, AL; deciBel Research, Inc., Huntsville, AL; Florida International University, Miami, FL; GaN Corporation, Huntsville, AL; GATR Technologies, Huntsville, AL; Grand Valley Manufacturing, Titusville, PA; Jankel Tactical Systems, LLC, Duncan, SC; L3 Technologies, Inc. Advanced Laser Systems Technology Division, Orlando, FL; MAC, LLC, Bay St. Louis, MS; Maxim Defense Industries, LLC, St. Cloud, MN; McQ, Inc., Fredericksburg, VA; Mobile Virtual Player, Lebanon, NH; Mountain Horse, LLC, Colorado Springs, CO; Optical Coating Laboratory, LLC aka Viavi Solutions, Santa Rosa, CA; PS2, LLC, Waretown, NJ; Ronin-International, Huntsville, AL; Ronin Staffing, LLC, Glendale, CA; Rubix Strategies LLC, Lawrence, MA; Signalink, Inc., Madison, AL; Silvus Technologies, Inc., Los Angeles, CA; Steelhead Composites, LLC, Golden, CO; The Columbia Group Inc. (TCG), Washington, DC; Trident Rifles, LLC, Odenton, MD; Virtual Sandtable LLC (vST), Las Vegas, NV; and Wyvern Security LLC, Orlando, FL, have been added as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on November 5, 2018. A notice was published in the Federal Register pursuant to Section 6(b) of the Act on December 6, 2018 (83 FR 62900).

Suzanne Morris,
Chief, Premerger and Division Statistics Unit, Antitrust Division.

[FR Doc. 2019-01981 Filed 2-11-19; 8:45 am]

BILLING CODE 4410-11-P